DEPARTMENT OF HEALTH AND HUMAN SERVICES

Administration for Children and Families

Submission for OMB Review; Comment Request

Title: Child Care Development Fund Plan for Tribes for FFY 2017-2019 (ACF-118-A).

OMB No.: 0970-0198.

Description: The Child Care and Development Fund (CCDF) Plan (the Plan) for Tribes is required from each CCDF Lead Agency in accordance with Section 658E of the Child Care and Development Block Grant (CCDBG) Act, as amended, by Public Law 113-186 and U.S.C. 9858. The Plan provides ACF and the public with a description of, and assurances about, the Tribes' child care program.

The FY 2017-2019 CCDF Plan Preprint for Tribal grantees is being published in the Federal Register for a 30-day Public Comment Period to provide an opportunity for the public to submit comments to the Office of Management and Budget (OMB). The first 60-day comment period on the Tribal Preprint closed on March 19, 2016. The Office of Child Care (OCC) has given thoughtful consideration to those comments received during the 60-day Public Comment Period. The Plan has been revised to provide additional guidance and clarification throughout the document to improve the quality of the information requested. Additional revisions were also made to identify those questions related to the CCDBG Act of 2014 that were added for “informational purposes only”. A red delta sign has been inserted to specifically identify those questions related to the new law. The CCDBG Act of 2014, signed into law in November of 2014 made significant changes to the CCDF program. However, the law did not explicitly indicate the extent to which many of the new requirements apply to Tribes. Questions related to the CCDBG Act of 2014 will provide ACF with baseline information on Tribal practices and technical assistance needs.

ACF extended the current Tribal Plan for one year, which means that Tribes will submit new 3-year Plans for FY 2017-2019 on July 1, 2016, with an effective date of October 1, 2016. This additional time allowed the Office of Child Care to consult with Tribal Leaders and their designated representatives to solicit input on how the new requirements of the CCDBG Act of 2014 might apply to Tribal child care programs. HHS will publish a Final Rule to determine the extent to which the new law applies to Tribes. Pending the issuance of new regulations and guidance, Tribes are subject to the prior law and regulations.

Respondents: Tribal CCDF Lead Agencies (257).

Annual Burden Estimates
Instrument | Number of respondents | Number of responses per respondent | Average burden hours per response | Total burden hours
ACF-118-A | 257 | 0.50 | 120 | 15,420

Estimated Total Annual Burden Hours: 15,420.

Additional Information: Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2016-09618 Filed 4-25-16; 8:45 am]

BILLING CODE 4184-01-P